DEPARTMENT OF THE TREASURY

Submission for OMB Review; Comment Request

November 17, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury PRA Department Clearance Officer, Department of the Treasury, Room 11010, and 1750 Pennsylvania Avenue, NW., Washington, DC 20220.

DATES: Written comments should be received on or before December 24, 2009 to be assured of consideration.

Internal Revenue Service (IRS)

OMB Number: 1545-0219.

Type of Review: Revision.

Title: Work Opportunity Credit.

Form: 5884.

Description: ICR Section 38(b)(2) allows a credit against income tax to employers hiring individuals from certain targeted groups such as welfare recipients, etc. The employer uses Form 5884 to figure the credit. IRS uses the information on the form to verify that the correct amount of credit was claimed.

Respondents: Businesses or other for-profits.

Estimated Total Burden Hours: 77,653 hours.

OMB Number: 1545-0142.

Type of Review: Revision.

Title: Underpayment of Estimated Tax by Corporations.

Form: 2220.

Description: Form 2220 is used by corporations to determine whether they are subject to the penalty for underpayment of estimated tax and, if so, the amount of the penalty. The IRS uses Form 2220 to determine if the penalty was correctly computed.

Respondents: Businesses or other for-profits.

Estimated Total Burden Hours: 24,206,448.

OMB Number: 1545-2145.

Type of Review: Extension.

Title: Notice 2009-52, Election of Investment Tax Credit in Lieu of Production Tax Credit; Coordination with Department of Treasury Grants for Specified Energy Property in Lieu of Tax Credit.

Description: This notice provides a description of the procedures that taxpayers will be required to follow to make an irrevocable election to take the investment tax credit for energy property under section 48 of the Internal Revenue Code in lieu of the production tax credit under section 45 of the Internal Revenue Code.

Respondents: Businesses or other for-profits.

Estimated Total Burden Hours: 100 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Dawn D. Wolfgang,
Treasury PRA Clearance Officer.

[FR Doc. E9-28103 Filed 11-23-09; 8:45 am]

BILLING CODE 4830-01-P